DEPARTMENT OF THE INTERIOR

Bureau of Land Management

[OR-025-01-1430-EU: G-1-0037]

Realty Action: Sale of Public Land in Harney County, Oregon

AGENCY: Bureau of Land Management (BLM), DOI.

ACTION: Notice of realty action, sale of public land.

SUMMARY: The following described public land in Harney County, Oregon, has been examined and found suitable for sale under sections 203 and 209 of the Federal Land Policy and Management Act of 1976 (90 Stat. 2750, 43 U.S.C. 1713 and 1719), at not less than the appraised market value. All parcels being offered are identified for disposal in the Three Rivers Resource Management Plan.

All of the land described is within the Willamette Meridian.

Parcel No. | Legal description | Acres | Minimum acceptable bid | Bidding procedures | Designated bidders
OR-53952 | T.27S., R.33E., Sec. 1, SW¼NW¼, W½SW¼; Sec. 2, S½NE¼, SE¼ | 360 | $36,000 | Competitive | None.
OR-54925 | T.21S., R.31E., Sec. 32, SW¼SW¼. T.22S., R.31E., Sec. 5, lot 4. | 80.63 | 5,200 | Competitive | None.
OR-55316 | T.18S., R.33½E., Sec. 33, S½NW¼. | 80 | 8,000 | Competitive | None.
OR-55317 | T.20S., R.30E., Sec. 22, NE¼SE¼. | 40 | 3,600 | Modified Competitive | Clyde Cowing and Marcia L. Eggleston—Trustee.
OR-55318 | T.20S., R.30E., Sec. 23, SE¼NE¼. | 40 | 3,600 | Modified Competitive | Clyde Cowing, Ronald Whiting and Marcia L. Eggleston—Trustee.
OR-55319 | T.20S., R.35E., Sec. 8, W½NE¼, E½NW¼, NE¼SW¼. | 200 | 20,000 | Competitive | None.
OR-55320 | T.20S., R.35E., Sec. 4, S½SW¼; Sec. 9, N½NW¼, SE¼NW¼, NE¼SW¼, S½SW¼. | 320 | 28,800 | Modified Competitive | Thomas M. and Barbara Jo Howard, Sitz Ranch Partnership, and Conly L. and Joanne Marshall.
OR-55321 | T.20S., R.35E., Sec. 17, NE¼SE¼. | 40 | 3,600 | Competitive | None.
OR-55322 | T.20S., R.35E., Sec. 25, S½SW¼. | 80 | 8,000 | Competitive | None.
OR-55323 | T.25S., R.31E., Sec. 1, lots 1 and 2. | 79.79 | 7,200 | Modified Competitive | Denny Land and Livestock.
OR-55324 | T.25S., R.34E., Sec. 20, SW¼. | 160 | 14,400 | Modified Competitive | Bell A Grazing Cooperative.
OR-55325 | T.25S., R.34E., Sec. 28, SW¼NW¼, W½SW¼. | 120 | 10,800 | Modified Competitive | Bell A Grazing Cooperative.
OR-55326 | T.25S., R.34E., Sec. 28, NE¼NE¼. | 40 | 3,600 | Modified Competitive | Bell A Grazing Cooperative.
OR-55327 | T.27S., R.35E., Sec. 7, lots 3, 4, NE¼SW¼; Sec. 18, lots 1, 2. | 161.12 | 16,100 | Competitive | None.
OR-55328 | T.27S., R.35E., Sec. 17, N½NE¼. | 880 | 7,200 | Modified Competitive | Norma and Maurice Davies—Trustee c/o M. Martin and Andrea L. Davies.
OR-55329 | T.27S., R.35E., Sec. 21, SE¼NE¼, NE¼SE¼. | 80 | 8,000 | Competitive | None.
OR-55330 | T.27S., R.35E., Sec. 30, SE¼SW¼, SW¼SE¼. | 80 | 7,200 | Competitive | None.

The following rights, reservations, and conditions will be included on the patents conveying the land:

All Parcels—A reservation for a right-of-way for ditches and canals constructed thereon by the authority of United States.

OR-53952—Patent will be subject to a right-of-way for road purposes granted to Tom Davies and a right-of-way for power line purposes granted to Harney Electric Cooperative.

OR-55316—The patent will be subject to a right-of-way for power line purposes granted to Idaho Power Company; a right-of-way for a buried telephone line purposes granted to CenturyTel of Eastern Oregon; and a right-of-way for public road purposes granted to Harney County.

OR-55321—The patent will be subject to a right-of-way for power line purposes granted to Idaho Power Company.

OR-55330—A quitclaim deed will be issued for this parcel. The deed will be subject to a previous reservation to Harney County for county road rights-of-way.

Access will not be guaranteed to any of the parcels being offered for sale, nor any warranty made as to the use of the property in violation of applicable land use laws and regulations. Before submitting a bid, prospective purchasers should check with the appropriate city or county planning department to verify approved uses.

All persons, other than the successful bidders, claiming to own unauthorized improvements on the land are allowed 60 days from the date of sale to remove the improvements.

All land described is hereby segregated from appropriation under the public land laws, including the mining laws, pending disposition of this action, or 270 days from the date of publication of this notice, whichever occurs first.

Bidding Procedures

Competitive Procedures

The Federal Land Policy and Management Act and its implementing regulations (43 CFR 2710) provide that competitive bidding will be the general method of selling land supported by factors such as competitive interest, accessibility, and usability of the parcel, regardless of adjacent ownership.

Under competitive procedures the land will be sold to any qualified bidder submitting the highest bid. Bidding will be by sealed bid followed by an oral auction to be held at 2:00 p.m. PST on Wednesday, January 31, 2001, at the Burns District Office, Bureau of Land Management, Hwy 20 West, Hines, Oregon.

To qualify for the oral auction bidders must submit a sealed bid meeting the requirements as stated below. The highest valid sealed bid will become the starting bid for the oral auction. Bidding in the oral auction will be in minimum increments of $100. The highest bidder from the oral auction will be declared the prospective purchaser.

If no valid bids are received, the parcel will be declared unsold and offered by unsold competitive procedures on a continuing basis until sold or withdrawn from sale.

Modified Competitive Procedures

Modified competitive procedures are allowed by the regulations (43 CFR 2710.0-6(c)(3)(ii)) to provide exceptions to competitive bidding to assure compatibility with existing and potential land uses.

Under modified competitive procedures the designated bidders identified in the table above will be given the opportunity to match or exceed the apparent high bid.

The apparent high bid will be established by the highest valid sealed bid received in an initial round of public bidding. If two or more valid sealed bids of the same amount are received for the same parcel, that amount shall be determined to be the apparent high bid. The designated bidders are required to submit a valid bid in the initial round of public bidding to maintain their preference consideration. The bid deposit for the apparent high bid(s) and the designated bidders will be retained and all others will be returned.

The designated bidders will be notified by certified mail of the apparent high bid. Where there are two or more designated bidders for a single parcel, they will be allowed 30 days to provide the authorized officer with an agreement as to the division of the property or, if agreement cannot be reached, sealed bids for not less than the apparent high bid. Failure to submit an agreement or a bid shall be considered a waiver of the option to divide the property equitably and forfeiture of the preference consideration. Failure to act by all of the designated bidders will result in the parcel being offered to the apparent high bidder or declared unsold, if no bids were received in the initial round of bidding.

Unsold Competitive Procedures

Unsold competitive procedures will be used after a parcel has been unsuccessfully offered for sale by competitive or modified competitive procedures.

Unsold parcels will be offered competitively on a continuous basis until sold. Under competitive procedures for unsold parcels the highest valid bid received during the preceding month will be declared the purchaser. Sealed bids will be accepted and held until the second Wednesday of each month at 2:00 p.m. PST when they will be opened. Openings will take place every month until the parcels are sold or withdrawn from sale.

All sealed bids must be submitted to the Burns District Office, no later than 2 p.m. PST on Wednesday, January 31, 2001, the time of the bid opening and oral auction. The outside of bid envelopes must be clearly marked with “BLM Land Sale,” the parcel number and the bid opening date. Bids must be for not less than the appraised market value (minimum bid). Separate bids must be submitted for each parcel. Each sealed bid shall be accompanied by a certified check, postal money order, bank draft, or cashier's check made payable to the Department of the Interior—BLM for not less than 20 percent of the amount bid. The bid envelope must also contain a statement showing the total amount bid and the name, mailing address, and phone number of the entity making the bid. A successful bidder for competitive parcels shall make an additional deposit at the close of the auction to bring the total bid deposit up to the required 20 percent of the high bid. Personal checks or cash will be acceptable for this additional deposit only.

Federal law requires that public land may be sold only to either: (1) Citizens of the United States 18 years of age or older; (2) corporations subject to the laws of any state or the United States; (3) other entities such as associations and partnerships capable of holding land or interests therein under the laws of the state within which the land is located; or (4) states, state instrumentalities or political subdivisions authorized to hold property. Certifications and evidence to this effect will be required of the purchaser prior to issuance of conveyance documents.

Prospective purchasers will be allowed 180 days to submit the balance of the purchase price. Failure to meet this timeframe shall cause the deposit to be forfeited to the BLM. The parcel will then be offered to the next lowest qualified bidder, or if no other bids were received, the parcel will be declared unsold.

A successful bill on a parcel constitutes an application for conveyance of those mineral interests offered under the authority of section 209(b) of the Federal Land Policy and Management Act of 1976. In addition to the full purchase price, a nonrefundable fee of $50 will be required from the prospective purchaser for purchase of the mineral interests to be conveyed simultaneously with the sale of the land.

DATES: On or before January 2, 2001, interested persons may submit comments regarding the proposed sale to the Three Rivers Resource Area Field Manager at the address described below. Comments or protests must reference a specific parcel and be identified with the appropriate serial number. In the absence of any objections, this proposal will become the determination of the Department of the Interior.

ADDRESSES: Comments, bids, and inquiries should be submitted to the Three Rivers Resource Area Field Manager, Bureau of Land Management, HC 74-12533, Hwy 20 West, Hines, Oregon 97738.

FOR FURTHER INFORMATION CONTACT: Detailed information concerning this public land sale is available on the internet at http://www.or.blm.gov/Burns or may be obtained from Craig M. Hansen, Field Manager; Rudy Hefter, Supervisory Natural Resource Specialist; or Holly LaChapelle, Resource Assistant, Three Rivers Resource Area at the above address, phone (541) 573-4400.

Dated: November 7, 2000.
Rudolph J. Hefter,
Supervisory Natural Resource Specialist.

[FR Doc. 00-29117 Filed 11-15-00; 8:45 am]

BILLING CODE 4310-33-M